ENVIRONMENTAL PROTECTION AGENCY

[EPA-HQ-OW-2008-0719; FRL-9921-05-OW]

Agency Information Collection Activities; Proposed Collection; Comment Request; Effluent Guidelines and Standards for the Airport Deicing Category

AGENCY: Environmental Protection Agency.

ACTION: Notice.

SUMMARY: The Environmental Protection Agency (EPA) is planning to submit an information collection request (ICR), “Effluent Guidelines and Standards for the Airport Deicing Category” (EPA ICR No. 2326.02, OMB Control No. 2040-0285) to the Office of Management and Budget (OMB) for review and approval in accordance with the Paperwork Reduction Act (44 U.S.C. 3501 et seq.). Before doing so, EPA is soliciting public comments on specific aspects of the proposed information collection as described below. This is a proposed extension of the ICR, which is currently approved through 03/31/2015. An Agency may not conduct or sponsor and a person is not required to respond to a collection of information unless it displays a currently valid OMB control number.

DATES: Comments must be submitted on or before March 2, 2015.

ADDRESSES: Submit your comments, referencing Docket ID No. EPA-HQ-OW-2008-0719, online using www.regulations.gov (our preferred method), by email to ow-docket@epa.gov (Identify Docket ID No. EPA-HQ-OW-2008-0719 in the subject line), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Sarita Hoyt, State and Regional Branch, Water Permits Division, OWM Mail Code: 4203M, Environmental Protection Agency, 1200 Pennsylvania Ave. NW., Washington, DC 20460; telephone number: (202) 564-1471; email address: hoyt.sarita@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This draft ICR calculates the burden and costs associated with information collection and reporting activities required by EPA's Effluent Limitations Guidelines and New Source Performance Standards for the Airport Deicing Category (40 CFR part 449.10 and 449.20). Respondents affected by this information collection request are covered by either EPA's Multi-Sector General Permit (MSGP), an equivalent state stormwater general permit, or an individual stormwater permit, and the NPDES permitting authorities receive, process, and review permit applications, and Notices of Intent (NOIs). Permitting authorities will also process and review certifications of non-use of urea-based deicers, and monitoring data as applicable.

Form Numbers: None.

Respondents/affected entities: The respondents affected by this information collection request are commercial airports with at least 1,000 annual non-propeller aircraft departures.

Respondent's obligation to respond: Mandatory (40 CFR part 449.10 and 449.20).

Estimated number of respondents: 198 (total).

Frequency of response: Annual.

Total estimated burden: 198 hours (per year). Burden is defined at 5 CFR 1320.03(b).

Total estimated cost: $6,534 (per year), includes $0 annualized capital or operation & maintenance costs.

Changes in Estimates: The above estimates reflect what is currently approved by OMB and they will be updated in the final ICR submission to OMB. EPA expects that there will be little or no change in the burden. The basis for these estimates is provided in the supporting statement.

Dated: December 18, 2014.
Sheila E. Frace,
Acting Director, Office of Wastewater Management.

[FR Doc. 2014-30518 Filed 12-29-14; 8:45 am]

BILLING CODE 6560-50-P